DEPARTMENT OF TRANSPORTATION

Federal Aviation Administration

14 CFR Part 71

[Docket No. FAA 2001-8682; Airspace Docket No. 01-ASW-1]

RIN 2120-AA66

Establishment of V-611 and Revocation of V-19; NM

AGENCY: Federal Aviation Administration (FAA, DOT).

ACTION: Final rule.

SUMMARY: This action changes the designation of Federal Airway 19 (V-19) to V-611. Currently, two airways with similar designations, V-19 and V-190, converge at the Albuquerque very high frequency omnidirectional range tactical air navigation (VORTAC) facility. This similarity has resulted in some pilots inadvertently joining the wrong route segment. This action will eliminate the similarity by redesignating V-19 as V-611. Except for the route designation, the airway alignment, radials, and published altitudes will all remain unchanged. This action will reduce the air traffic controller workload and enhance aviation safety.

EFFECTIVE DATE: 0901 UTC, May 17, 2001.

FOR FURTHER INFORMATION CONTACT: Steve Rohring, Airspace and Rules Division, ATA-400, Office of Air Traffic Airspace Management, Federal Aviation Administration, 800 Independence Avenue, SW., Washington, DC 20591; telephone: (202) 267-8783.

SUPPLEMENTARY INFORMATION:

Background

The FAA has identified a potentially unsafe situation resulting from two airways with similar names (V-19 and V-190) that cross the Albuquerque, NM, VORTAC navigation facility and proceed in the same general direction. Aircraft that were cleared via V-19 have been observed joining V-190 by mistake. This results in a potentially unsafe situation because the minimum en route altitude (MEA) on V-190 is 13,000 feet above mean sea level (MSL) while the MEA on V-19 is only 9,000 feet above MSL. As a result, aircraft cleared via V-19, but joining V-190 by mistake, may not be high enough to clear the mountains northeast of the VORTAC. This is a common mistake and in a recent incident, corrective action was taken by the controller to prevent an unsafe situation.

The Rule

This amendment to 14 CFR part 71 changes the designation of V-19 in its entirety to V-611. There are no changes to any of the existing radials or altitudes.

This change is necessary because two airways with similar designations, V-19 and V-190, converge at the Albuquerque, NM, VORTAC navigation facility. This similarity has resulted in some pilots inadvertently joining the wrong route segment northeast of the Albuquerque, NM, VORTAC while continuing to fly at an altitude that would have been safe on the correct airway route segment but that would not be safe on the route segment that they joined by mistake. This action will reduce the likelihood that this mistake would happen by redesignating V-19 as V-611. Because this action is needed for safety reasons, for good cause, I find that notice and public procedure under 5 U.S.C. 553(b) are impracticable and contrary to the public interest. Comments are not being requested because it is unlikely that useful information will be received.

The FAA has determined that this regulation only involves an established body of technical regulations for which frequent and routine amendments are necessary to keep them operationally current. It, therefore—(1) is not a “significant regulatory action” under Executive Order 12866; (2) is not a “significant rule” under Department of Transportation (DOT) Regulatory Policies and Procedures (44 FR 11034, February 26, 1979); and (3) does not warrant preparation of a Regulatory Evaluation as the anticipated impact is so minimal. Since this is a routine matter that will only affect air traffic procedures and air navigation, it is certified that this rule, when promulgated, will not have a significant economic impact on a substantial number of small entities under the criteria of the Regulatory Flexibility Act.

Federal airways are published in paragraph 6010(a) of FAA Order 7400.9H dated September 1, 2000, and effective September 16, 2000, which is incorporated by reference in 14 CFR 71.1. The Federal airways listed in this document will be published subsequently in the Order.

List of Subjects in 14 CFR Part 71

Airspace, Incorporation by reference, Navigation (air).

Adoption of Amendment

In consideration of the foregoing, the Federal Aviation Administration amends 14 CFR part 71 as follows:

PART 71—DESIGNATION OF CLASS A, CLASS B, CLASS C, CLASS D, AND CLASS E, AIRSPACE AREAS; AIRWAYS; ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the Federal Aviation Administration Order 7400.9H, Airspace Designations and Reporting Points, dated September 1, 2000, and effective September 16, 2000, is amended as follows:

Paragraph 6010(a)—Domestic VOR Federal Airways

* * * * *

V-19 [Remove]

* * * * *

V-611 [New]

From Newman, TX, via INT Newman 286° and Truth or Consequences, NM, 159° radials; Truth or Consequences; INT Truth or Consequences 028° and Socorro, NM, 189° radials; Socorro; Albuquerque, NM; INT Albuquerque 036° and Santa Fe, NM, 245° radials; Santa Fe; Las Vegas, NM; Cimarron, NM; Pueblo, CO; Black Forest, CO; INT Black Forest 036° and Gill, CO, 149° radials; Gill; Cheyenne, WY; Muddy Mountain, WY; 5 miles, 45 miles 71 MSL, Crazy Woman, WY; Sheridan, WY; Billings, MT; 38 miles 72 MSL, INT Billings 347° and Lewistown, MT, 104° radials; Lewistown; INT Lewistown 322° and Havre, MT, 226° radials; to Havre.

* * * * *

Issued in Washington, DC, on March 30, 2001.
Reginald C. Matthews,
Manager, Airspace and Rules Division.

[FR Doc. 01-8439 Filed 4-4-01; 8:45 am]

BILLING CODE 4910-13-U